DEPARTMENT OF THE INTERIOR

Bureau of Land Management

[WY-100-08-1310-NB-016K]

Notice of Rescheduled Annual Tour of the Pinedale Anticline Working Group on September 26th, 2008

AGENCY: Bureau of Land Management, Interior.

ACTION: Notice.

SUMMARY: In accordance with the Record of Decision for the Pinedale Anticline Environmental Impact Statement (2000) the U.S. Department of the Interior, Bureau of Land Management (BLM) Pinedale Anticline Working Group (PAWG) will conduct its annual tour of the Pinedale Anticline Project Area in Pinedale, Wyoming on Friday, September 26th, 2008. The tour is open to the public and will begin at the BLM Pinedale field office at 8:30 a.m. To take part in the tour, an RSVP is required no later than Friday, September 19th, 2008.

DATES: The Annual Tour will be held on Friday, September 26th 2008 at 8:30 a.m. In order to attend the tour, an RSVP is required and must be received by September 19th, 2008.

ADDRESSES: The PAWG tour will begin at the BLM Pinedale Field Office, 1625 West Pine Street, Pinedale, WY. Please RSVP to Mr. David Crowley, Pinedale Anticline Working Group Coordinator, Bureau of Land Management, Pinedale Field Office, 1625 West Pine Street, P.O. Box 768, Pinedale, Wyoming 82941, or via e-mail to dave_crowley@blm.gov.

FOR FURTHER INFORMATION CONTACT: Mr. David Crowley, Pinedale Anticline Working Group Coordinator, Bureau of Land Management, Pinedale Field Office, 1625 West Pine Street, P.O. Box 768, Pinedale, Wyoming 82941, telephone (307) 367-5323. dave_crowley@blm.gov.

SUPPLEMENTARY INFORMATION: The Pinedale Anticline Working Group (PAWG) was authorized and established with release of the Record of Decision (ROD) for the Pinedale Anticline Oil and Gas Exploration and Development Project on July 27, 2000. On June 25, 2008, the Secretary of the Interior renewed the PAWG Charter. The PAWG advises the BLM on the development and implementation of monitoring plans and adaptive management decisions as development of the Pinedale Anticline Natural Gas Field proceeds. The PAWG is composed of nine members representing governmental agencies, industrial operators, interest groups and local communities. The 2008 annual PAWG tour was originally scheduled for June 20th. Due to membership changes, that meeting was cancelled and has been rescheduled through this notice. Additional information about the PAWG can be found at: http://www.blm.gov/wy/st/en/field_offices/Pinedale/pawg.html.

Dated: August 8, 2008.
Chuck Otto,
Pinedale Field Office Manager.

[FR Doc. E8-18907 Filed 8-14-08; 8:45 am]

BILLING CODE 4310-22-P